AGENCY FOR INTERNATIONAL DEVELOPMENT

Notice of March 5 Advisory Committee on Voluntary Foreign Aid Meeting

AGENCY: United States Agency for International Development.

ACTION: Notice of meeting.

SUMMARY: Pursuant to the Federal Advisory Committee Act, notice is hereby given of a meeting of the Advisory Committee on Voluntary Foreign Aid (ACVFA).

DATES: Wednesday, March 5, 2013.

Time: 2:00 p.m.-4:00 p.m.

Location: Horizon Room, Ronald Reagan Building.

Agenda

USAID Administrator Rajiv Shah will make opening remarks, followed by panel discussions among ACVFA members and USAID leadership on our vision and core values. The full meeting agenda is available on the ACVFA Web site at http://www.usaid.gov/who-we-are/organization/advisory-committee.

Stakeholders

The meeting is free and open to the public. Persons wishing to attend should register online at http://www.usaid.gov/who-we-are/organization/advisory-committee/get-involved.

SUPPLEMENTARY INFORMATION: Due to logistical difficulties associated with the meeting, this notice is provided less than 15 calendar days prior to the meeting (see 41 CFR 102-3.150(b)).

FOR FURTHER INFORMATION CONTACT: Jayne Thomisee, 202-712-5506.

Dated: February 20, 2014.
Jayne Thomisee,
Executive Director (A), Advisory Committee on Voluntary Foreign Aid (ACVFA), U.S. Agency for International Development.

[FR Doc. 2014-04316 Filed 2-26-14; 8:45 am]

BILLING CODE P